DEPARTMENT OF HEALTH AND HUMAN SERVICES

Substance Abuse and Mental Health Services Administration

Notice of Meetings; Correction

The Substance Abuse and Mental Health Services Administration published a document in the Federal Register of August 2, 2011, concerning a combined meeting on August 16, 2011, of the Substance Abuse and Mental Health Services Administration's (SAMHSA) four National Advisory Councils (the SAMHSA National Advisory Council (NAC), the Center for Mental Health Services NAC, the Center for Substance Abuse Prevention NAC, the Center for Substance Abuse Treatment NAC), and the two SAMHSA Advisory Committees (Advisory Committee for Women's Services, and the Tribal Technical Advisory Committee). The document contained an incorrect date.

FOR FURTHER INFORMATION CONTACT: Cynthia A. Graham, 240-276-1692.

Correction

In the Federal Register of August 2, 2011, in FR Doc. 2011-19478, on page 46312, in the second column, correct the “DATE/TIME/TYPE” caption to read:

DATE/TIME/TYPE: Monday, August 15, 2011, from 9 a.m.-5 p.m. (Open).

Dated: August 3, 2011.
Janine Denis Cook,
Chemist, Division of Workplace Programs, Substance Abuse and Mental Health Services Administration.

[FR Doc. 2011-20026 Filed 8-8-11; 8:45 am]

BILLING CODE 4162-20-P